DEPARTMENT OF ENERGY

Federal Energy Regulatory Commission

[Docket No. RP00-337-000]

Kern River Gas Transmission Company; Notice of Technical Conference

March 7, 2001.

On January 5, 2001, Kern River Gas Transmission Company (Kern River) filed pro forma tariff sheets proposing the pipeline's segmentation policy in compliance with Order No. 637 and as discussed during a technical conference held on October 12, 2000. Kern River's segmentation filing has been protested.

Take notice that a second technical conference to discuss the various issues raised by Kern River's filing will be held on Tuesday, March 20, 2001, at 9:30 am, in a room to be designated at the offices of the Federal Energy Regulatory Commission, 888 First Street, NE., Washington, DC 20426. Parties protesting aspects of Kern River's filing should be prepared to discuss alternatives.

All interested persons and Staff are permitted to attend.

David P. Boergers,
Secretary.

[FR Doc. 01-6141 Filed 3-12-01; 8:45 am]

BILLING CODE 6717-01-M